DEPARTMENT OF COMMERCE

National Oceanic and Atmospheric Administration

[I.D. 032201B]

South Atlantic Fishery Management Council; Public Meeting

AGENCY: National Marine Fisheries Service (NMFS), National Oceanic and Atmospheric Administration (NOAA), Commerce.

ACTION: Notice of public meeting

SUMMARY: The South Atlantic Fishery Management Council (Council) will hold a meeting of its Marine Protected Area Advisory Panel (AP) in Charleston, SC, to develop recommendations to send to the Council regarding areas that should be considered for Marine Protected Areas.

DATES: The Marine Protected Area AP will meet May 8-10, 2001. The meeting will begin on May 8, from 8:30 a.m. until 5 p.m., on May 9 from 8:30 a.m. until 5 p.m., and on May 10 from 8:30 a.m. until 3 p.m.

ADDRESSES: These meetings will be held at the Embassy Suites North Charleston Convention Center, 5055 International Boulevard, North Charleston, SC 29418; telephone: (843) 747-1882; fax: (843) 747-1895.

FOR FURTHER INFORMATION CONTACT: Kim Iverson, Public Information Officer; telephone: (843) 571-4366; fax: (843) 769-4520; email: kim.iverson@noaa.gov.

SUPPLEMENTARY INFORMATION: Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to the Council office (see ADDRESSES) by April 30, 2001.

Dated: March 23, 2001.
Richard W. Surdi,
Acting Director, Office of Sustainable Fisheries, National Marine Fisheries Service.

[FR Doc. 01-8053 Filed 3-30-01; 8:45 am]

BILLING CODE 3510-22-S